DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2016. For purposes of this listing, long-term residents, as defined in section 877(e)(2), are treated as if they were citizens of the United States who lost citizenship.

Last name | First name | Middle name/Initials
AAL-HUSSAIN | OMAR | ABDULGADER
ACHESON | WILLIAM | GEOFFREY
ADKINS | AARON | MICHAEL
AGNELLI | VIRGINIA | ASIA
AHARONOFF | ASSAF | EFRAIM
AHRENS | PATRICIA | LOUISE
AL DOSARI | IBRAHIM | ESSA
AL GEER | AYMAN | ALI
AL-ABBOH | EINAS | ABDUL AZIZ
ALBARRAK | ZYAD | ABDULLATIF
ALBRECHT | RENATE
ALDUWAIK | KHADIJAH | AIMAN
ALEXANDER | KIRK | BRADFORD
AL-HELAL | HUSSAIN | HAMAD
ALI | FATIMAH | NABIL
ALI TURKI | AZIZA | ISMAIL
ALJAS | VIRVE | MALLE
ALJUMAIH | WALEED
ALLAN | JEAN | MARY
ALON | RUTH
AL-SHAYA | MOATH | MOHAMMAD
ALSHEHRI | MOHAMMED | DHAFER
ALSHEHRI | MOHAMMED | DHAFER
AL-YAHYA | FAISAL | OTHMAN KHALID
AL-YAHYA | FARAH | OTHMAN KHALID
AL-YAHYA | YAHYA | OTHMAN KHALID
AMBROS | BARBARA | MARIA
AMIS | JOHN | MATTHEW
ANTEBI | EDITH | MARGALIT
ARAZIM | KAREN | BARTEL
ATHEY (NEE: WILLIAMS) | RHEA | MARLA DAWN ATHEY
AYAHYA | FARAH | OTHMAN KHALID
AYDIN | KURT | TURHAN
AZARIA | RACHEL
BAKER | LAURA | LEE
BARIMAN | AHMET | BORA
BARIMAN | AHMET | BORA
BATTERJEE | ALI | ABDALMAJEED
BAUTZ | LESLI | MARIE
BEARDSHAW | VIRGINIA
BEDOYA | MARTIN | ALEJANDRO
BELLA | ENRICO | MARIA
BELLA | FRANCESCO | GIOVANNI MARIA
BEN-MENASHE | SIGAL
BENNETT | LOUISE
BERMAN | ERIC | HART
BETHUNE | JOHN | STEWART
BICK | ADINA | MIRIAM
BICK | ARYEH | HAYIM
BIRKNER | ELKE
BIRMINGHAM | STEVEN | THOMAS
BLESSLEY | THOMAS | MARR
BOESEN | CHARLES | CHRISTIAN
BOESEN | LILICE | JEANNE LESINSKI
BOGNER | EJAY | JEHUDA
BOLS | ANDREA | INGRID
BORDEN | KENNETH | MICHAEL
BORNEMANN | STEPHEN
BOROVITZ | MOSHE
BOSIO | SARAH | ANNE
BOURKE | ELIZABETH | DAWN
BOYLAN | ELIZABETH | AGNES
BRADLEY | AMANDA | JANE
BRANDON | JUDITH | MARIE
BRAUNSCHWEILER | PATRICIA | ANN
BREWSTER | SOPHIA | WARREN
BROMLEY-DAAVENPORT | NOCHOLAS | WALTER
BROWN | CATHERINE | ELIZABETH MARY
BROWN | JAMES | MELVILLE
BROWN | TIMOTHY | NELSON
BRYAN | ORAN | ALON
BURTON | HILARY | A
CARLIN | BARBARA | ANN
CAUSSE | OLIVIER
CELLA (AKA: IMAMDEEN CELLA) | IMAM
CESAR | PACIFICA | YAP
CHAMBERLIN | TILIKA | JEAN
CHAMBERS | MARGARET | FERN
CHANG | JACK
CHANG | JEFFREY
CHANG | RAINBOW
CHANG | YING | HU
CHARPENTIER | MYRIAM
CHEN | A | GUAN
CHEN | CHUN | M
CHEN | MARGARET | C
CHENG | RAYFAN
CHISHOLM | SCOTT | MCKAY
CHOEN-MEITAR | RAVIT
CHRISTIANSEN | BARBARA | NANEKA
CONRADI | AXEL | HEIBERG
COON | CHRISTOPHER | LEE
CORBETT | BRIAN | O
COUNE | TIFFANY | ALLISON
COUSINS | DANIEL | R
COX | FIRIND | NAMIR
COYNE | LIANA | JENNIFER
CRESSMAN | WAYNE | EVERETT
CUNNINGHAM | VICTORIA | IGOREVNA
CZERNIM | JOHANNES | BARTHOLOMAEUS
DAH HIS | MICHAEL | CHUNG
DALLAS | MICHAEL | GRAY
DAOUK | TAMARA
DAVENPORT | KAREN | LUCILLE
DE LOES | DIANE | ISABELLE MARGARET
DE PAILHE | COMTESSE LORALINE MARIE | DE LIEDERKE
DEHNER | GABRIELE
DELORME | TIMOTHE | MARIE
DESBOROUGH | SHIRLEY | DANKS
DICK | TODD | MICHAEL
DODDS (AKA: BURNS) | VICTORIA | ELIZABETH
DOEBBER | PHILLIP
DONNELLY | SEBASTIAN | PETER SUMNER
DROOKER | JONATHAN | MANUEL
DUCH | CHRISTINA | ERICA
DUFF | BRUCE | G
DUMAS-STEIN | CAROLINE | TESSA
EGAN | JOSEPH | FRANKLIN
EHRLICH | DAVID | STUART
EL GAREM | MARWAN | RIAD
ELDOR | KAREN
EL-HOSS | SALEM | JABER
ENGEL | MARTIN | TOBIAS
ESTERSON | AKIVA | ELISHAMA
FAJARDO | WANDA | DOLORES
FAN | RYAN | JIU SHIN
FANGER | RUDOLF | HEINRICH
FARARO | RAMONA | MICHELE
FENWICK | THOMAS | CHARLES
FISHER | CHARLES | RICHARD JOHN
FISHER | VIRGINIA | ANN MARIE
FITZPATRICK | MICHAEL | ANDREW
FLINN | MICHELE | MOIRA
FLUECK | DAVID | C
FOA-SACRANIE | LIA | GIANNA
FOLONARI SCOTTI | ANTONELLA
FOO | MAW | DER
FORREST NIELSEN | JANICE
FORSYTH | CHLOE | NICOLE
FORTUNE | TRACY | LYNNE
FOSTER | LENORE | ELIZABETH
FOX | STEPHANIE | RUTH
FRANKFURTER | DAVID | ARTHUR
FRAUCHE | DEBORAH | LYNN
FREEMAN | FRED
FREEMAN | WINIFRED | ANNE
FUCHS | JOSEF
FULHAM | LAUREEN | JANET
FURNER | GUY | V
GAILLARD | JAMES | ROBERT
GALBRAITH | GEORGE | ALLEN
GALLUCCI | GLORIA | ALEXANDRA
GARROD | LAURENCE | DUNCAN
GASIOR | THOMAS | STEPHEN
GEE | THOMAS | WESLEY
GEHRING | ARNE | J
GEORGES | CHRISTINE | LAURE
GEORGES | MARI | ELIZABETH
GESSELL | ESTHER | ARLENE
GILBART (RIANN) | SHERYL (KAYLE) | A
GILGEN | CHRISTOPH | ANDREAS
GILGOFF | ROBERT | HARVEY
GIMPEL | ELISABETH | HERTA
GLASSMAN | WILLIAM | EDWARD
GNES | STEFANO
GO | ANNABELLE
GODDYN | JOAN | AMBER
GOLDENBERG | DVIR
GOLDSHMIDT | MOR
GORDON | HARRIET | MAY
GOTLIB | JANE | STACEY
GOULD | GIOVANNA
GRAHAM | ROBERT | ROEBUCK
GREILSAMER | DANIEL | ALFRED
GRIES | NINA | FROSELL
GRIFFITH | DANIEL | HAYES
GROSS | DAVID | COLE
GUTIERREZ-MATURANA-LARIOS | BARBARA
GYLLING | SOLVEIGQ | HELEN
HADLAND | LUELLA | MARTHA
HALL | SUSAN | ELIZABETH
HAMI | ASHRAF
HAMI | MOHSEN | MARK
HAQ | TANZEEM | UL
HARA | AIKA | PALMY
HARLOW | KATHLEEN | PAMELA
HARPER | CAROLINE | ANNE
HARRISON | SAMUEL | LUCAS
HASEGAWA | MEGUMI
HASEGAWA | YOSHIYUKI
HEALY | DAVID | JOHN
HEALY | DOREEN | MARIE
HEBB | MARY | ELLEN
HEHLI | DEBORAH | JEANNE
HEIDE | THOMAS | POUL
HENDERSON | POLLY
HENSON | ANTHONY | HOWARD
HERTZBERG | AVIRAM
HICKS | BRIAN | TOHSEI
HIGGINS | WENSLEY | VIVIEN RUSSELL
HINNEBERG | JOANNA | CHRISTINA
HINNEBERG | PAUL | WALTER
HINNELL | SUZANNA | LYNN
HINTON | PAUL | DOUGLAS
HOFNER | MARIE | CLAUDE ELISE
HOLDEN | KAREN | LEE
HOLME | VICTORIA | ANNE
HONEYWELL | CALEY | FARYON
HORAN | AVSHALOM
HORESH | NADAV | MEIR
HOYLE | JANICE | HUTTO
HOYLE | LISA | NICOLE
HUANG | HIS-ME
HUANG | JANE | CHENGXIA
HUBBARD | TIMOTHY | KARL
HUBER | KRYSTYNA | M
HUME | ROSALIND
HUNDT | LORNA | MAC LENNAN
HURDEN | JAMES | ALEXANDER GARNETT
HUSSAIN | TANVIR | MANZOOR
HUTCHINSON | THOMAS | KEMP
IBRAHIM | JAD | JIMMY
INKLEBARGER | JAMES
INTROCASO | LORRAINE | A
JACKSON (NEE: WHEELER) | KATHRYN | HILARY
JAIN | ALK | RANI
JAMALI | QAIS | HAITHEM AL
JANSSEN | JAMES | R
JANSSEN | JODY | A
JOHAL | KRISTA | ELIZABETH MARR
JOHANSON | GARY
JULES | GENEVIEVE | FRANCES
KAFKA | JEFFREY | STEWART
KAMMERZELL | ROBERT | LEE
KAMMERZELL | SHIRLEY | ANN
KANEKO | YASUKO
KANKE | DOROTHY | LYNN
KAPALKA | ALISON
KAPOS | MARTHA | ROCHLIN
KASPRZYK | CYNTHIA | BARBARA
KASSEL | MARK | AARON
KAWANO | ANDREA | KISHIYO
KELLER | ANDREAS | LUKAS
KELLEY | THOMAS | P
KEMP | ALISON
KESSICK | ELIZABETH | ANNE
KHALAF | RICHARD | ANTHONY
KINGSTON | MATTHEW | WESLEY
KLEMM | CHRISTIAN | WALTER
KLINGLER | SUSAN | BARBARA
KOFMEHL | SAMANTHA | LISA
KOHLER | PATRICIA | ANN
KONG | STEPHANIE | SIRWIN
KONRAD | HANS | RUDOLF
KOPELMAN | ARIE
KORDA | SCOTT | PIERRE
KRINSKY | DANIEL | B
KUMAR | NIRMALYA
KUNDERT | ANN
LAI | ERIC | CHUN CHOU
LAINE | ANGELA | STAUCH
LARSEN | GREGORY | GEORGE
LARSSON | CARL | KAI PING
LAUDER | ALBERT | JAMES
LAUENER | NATHAN | THEODOR
LAW | LEO | KAI CHING
LAWSON (NEE CRAWFORD) | COURTNEY | ANNE
LEACH | DAVID | REGINALD FRANCIS
LEE | JASON | J
LEHMAN | ANNA | MICHELLE
LEHMANN SCARPONI | PHAEDRA | MURIEL DIONA
LEONARD | PAUL | GEORGE
LEVETTO | MARCO
LEVETTO | ROSSANA
LEVIN | MALCOLM | ARNOLD
LEWIN | SUSAN | ELIZABETH SPENCER
LII | WINSTON | WEN
LIN | DAVID | GAU DE
LIN | SHERRY | SHIH PING
LINDGREN | STEVEN | RAY
LIU | TIANWEN
LO | PATRICK
LOEPPKY | SARAH | REBECCA
LONG | THOMAS | EDWARD
LOWEY | EILEEN | SLYPHER
LUCQUIAUD | AMY | INGRID SMALL
LUDERS | PILAR | MICHELLE
LUGINBUEHL | KEVIN
MACLEAN | ANNE
MADIEDO-BENSLER | PATRICIA
MAEZ, III | JOSEPH | FILBERTO
MAGERUS | GEORGE | ISIDORE
MARANGON | FRANCESCA | SARA
MARCAIDE | IKER
MARCOVICH | PHILIPPE | JOEL
MARTIN (NEE: SMITH) | MONICA | HELEN
MATHISEN | CAROL | ANN
MAXWELL | GEORGE | DEWEY
MAYS | FIONA | CORALIE
MCCAIN | JAMES | SCOTT PATRICK
MCCREERY | HENRY | ANTHONY JAMES
MCDUFFIE | JAMES | DANIEL
MCHALE | ANTHONY
MCINTOSH | RYOKO
MCINTOSH | STUART | J
MEARS | JESSICA | DE WINDT
MEIER | HELENE | ELISABETH
MEINGAST | JUDITH | JEAN
MIDDLETON | EDWARD | JAMES
MILLS | PATRICIA | ROBERTA
MOERTL-HAFIZOVIC | DZENANA
MOORE | REBECCA | S
MOORE | WILLIAM | D
MORAGODA | ASOKA | MILINDA
MORRIS | JULIE | GAIL
MORTENSON | WILLIAM | BENNETT
MOTTERSHEAD | GARY | GEORGE
MOULD (NEE KNYFF) | ANNE | MARIE
MROCZKOWSKI | JAN | ALEKSANDER
MUHLBAUER | GRACE | LUCIE
MURPHY | SEAN | MICHAEL COLIN
MUSSIO | SHARON | LEE
NADLER | TAL
NEWMAN | DAVID | ISAAC
NG | ERICA | CLARISSE NOCOM
NG | LILYBETH
NICHOLL | OLIVIA | MOYRA
NICHOLS | JOHNATHAN | BRADLEY
NIELSEN | JANICE | LYNN
NIKOLITSA-WINTER | CHRISTIANA
NILAND | JUDITH | ANNE
NOVIKOV | KIRILL | ANATOLYEVICH
NUSSBAUM | NIRA | JO
OFEN | SARAH
ORCHARD | RITA | MARIE
OREN | RUTH
OREN | SHIRA | YAEL
O'ROURKE | DUNCAN | PATRICK
OSMOND | TANIA | LEE
O'TOOLE | PATRICK | FRANCIS
PAK | RICHARD | CHANG
PALMER | CATHERINE | MARY
PANDJI | KRISTIJANTO
PARRENT | LISA | RUTH
PATEL | MANISH
PATTNI | MEENESH
PAYKOU | ALEXANDRA | CECILY
PEEBLES | BRIAN | DAVID
PERRY | LAUREN | CELIDA
PETERLIN-NEUMAIER | TATJANA | M
PINSENT (AKA LEAH KING CAPELLUPO) | LEAH
PLANTE | MICHEL
POLAK | NICKOLAS | MAURITZ JOSEPH
POLIN | GIOVANNI | MOSE
PORTER | JAMES | DANIEL
PURDON | CAROLINE | ANNE
QUMBAR | ANOOD | MUHAMMAD
RABACCHI | GRACE | LISA
RADOJA | CHRISTINE
RAJWITSCHER | NICHOLE
RAMSINGHANI | AMIT | VASHU
RANA | BRINDA
RANA | VIKAS
RATHIER | STEPHANIE | KATIA
RAZ | ORIT
REICHLIN | KATHLEEN | N
REICHLIN | KATHLEEN | NATASHA
REID | KATHERINE | AMELIA
REID | WILLIAM | CABANNE CABOT
REUTEMANN | CHRISTINA | BRIGITTE
RICHARDSON | SUSAN | ELAINE
RICHTER | DEBORAH | CLAIRE
RIEDER | NICOLE | LISA
RIESER-BAKER | FRANCESCA | ELIZABETH
RIGGS | CHRISTINA | JOY
RIKER | ROBERT | RAY
ROAN | AHMED | JASON
ROBERGE | INDRE
ROBINSON | GARY | CAMPBELL
RODRIGUEZ | JAVIER | DAVID
ROMIG | THOMAS
RONGA | ALEXANDRE | JACQUES OLIVER
RONNHOLM | THOMAS
ROOKE | JACQUELINE | MARIE
ROSENTHAL | MONIKA
ROTHENBERG | LINDA | ELISABETH
RUBNER | JOSEPH
RUCKMAN | MARIBETH | RUTH
RUNDBERG COSULICH | BERIT | CHARLOTTE
RUSSELL | GERARD | S
RYMON | GAL
RYMON | RON
RYMON | TALIA
SADAR | MARIANNE | DOROTHY
SALMI | SANDRA | MAE
SALTARELLI | FRANCESCA
SAMHOUN | MARWA | N
SANDERS | JENNIFER | ANN
SCARROW (NEE: NUGENT) | ASHLEY | LORING
SCHAD | KELLY | ANN
SCHAFFNER | SANDRA | MICHELLE
SCHAUBLIN | ADRIAN | LUKAS
SCHELKER | SIMONE | DOMINIQUE
SCHEPP | LEAH | ASHLEY
SCHULER | CATHERINE | T
SCHURMANN DENZLER | URSINA | META
SEGRE | CLAUDE | GEORGE
SEGRE VITALI | WANDA | JACQUELINE
SHAFFER | ELEONORE | BROOKE
SHAH | SHAILA | JAY
SHAHAR | ELAD
SHEIKH | ZAFAR | IKRAM
SHIELDS | JOHN
SHILD | DANA
SHORT | JEFFREY | WILLIAM
SHULL | JEFFREY | LOUISE
SILBERMAND | IAAC
SKIDMORE | GRETCHEN | LONG
SKIREDJ | LAMIA | MIRIAM
SMALL | JOHN | MURRAY
SMITH | BERNHARD
SOLMS-BARUTH | LIVIA | D. M. ZU
SOMEYA | MASATO
SPEERS | JOAN | ADAMS
SPENCER | DAVID | HONATHAN
SPINGLER | MARKUS | STEVEN
SPURLING | ANNA | L
STEENBURGH | FLOYD | F
STEFKA | DANIEL | GUIDO
STEINHAGEN | VIOLA
STEINRUECKE | KATHARINA | ELISABETH H
STEWART | FREDERICK
STOLZE | JAN
STUKATOR | REINHOLD
SULTAN | MANSOOR | ABDULKARIM
SUNNEGARDH | LEIF | RIKARD
SURCHTNER | JOSEFINE | SIEGLINDE
SWEET | CONSTANCE | MARIE
TAIT | AMANDA
TAPLEY | HEATHER | LYNNE
TAQUI | AHMED | A
TARRANT | LINDA
TAYLOR | HILLARY | JEANNE
THALER | HEMMA | ELISABETH
THORNING | CASPER
THORNTON | TRASZHA
THORNTON | TRASZHA | ROXANNE
THRENDYLE | THERESA | ANN
TIEU | KEVIIN
TODD | JULIAN | GARFIELD
TONKYN | ANNE | PRUDENCE
TONKYN | WILLIAM | RICHARD
TRACOL | MIREILLE | LAKAH
TRELIVING | JAMES | WALTER
TSUJI | KATHERINE | EMIKO
TUCK, III | ROSCOE | EDWARD
TUOHY | WALTER | JOSEPH
TUTTNAURER | GAL | ZEV
UTIGER | MARY | J
VALENTI | SHIRLEY | JEAN
VAN CAMPEN | JOANNES | HENDRICUS
VANDERBERG | MARGARET | L.
VERRALL | MARK | HARDY
VLITOS | JOHN | PAUL
VOGEL | VICTOR | DAVID
VOLIJ | OSCAR | CARLOS
WACASEY | JENNIFER | LEE
WACHTMAN, JR | EDWARD | LEROY
WAESPE | NILS
WALKER-SMITH | PETER | JAMES
WALLACE | MAXWELL | SHEPPARD BAILEY
WANG | JWUO | CHIN
WATSON | CLYNTHIA | KAYE
WEARS | TERRY | ALAN
WEATHERLEY | CALLUM | JAMES RYAN
WEBER | MIRKO | JASON
WEBER-MARSH | NADINE | NICOLE
WEE | HYUN | JU
WEEKS | CLAIRE
WEINBERG | LINDA | FRANCES
WELLS | KAIRIT
WEST | ROBERT | EUGENE
WESTCOTT | LEWIS | MICHAEL
WESTMAN | STEVEN | ANTHONY
WHALEY | ANN | MARIE
WHITWORTH | CLAUDIA | MARIA
WIHITLOCK | KATHERINE | MARY JOYCE
WILLLIAMS | ADAIR | GEORGE WILMOT
WINGFIELD | ANNA
WOLBERGER | ILAN
WONG | KARLY | KA-LAI
WOOD | RONALD | KEITH
WORTHING | MARY | EVELYN LORRAINE
WROBEL | VICTOR
WU | JERRY | KUAN-HAN
WU | JOSEPH | I-CHIEH
YADA | TERESA | ANN
YANG | YUNG-FA
YATES | MEGAN | ROE
YOUNG | ERIC | CARL
ZABEL | SUSAN | PATRICIA
ZAKLAD | EFRAT
ZAKLAD | HAIM
ZANESCO | PAUL | B
ZANGL | WYONIE | FRANZISKA
ZELEWICZ | LLENE | JUNE
ZONA | ELENA | MARIA
ZYNGIER | SHEILA | WOWE

Dated: July 22, 2016.
Maureen Manieri,
Manager Classification Team 82413, Examinations Operations—Philadelphia Compliance Services.

[FR Doc. 2016-18029 Filed 7-28-16; 8:45 am]

BILLING CODE 4830-01-P